DEPARTMENT OF STATE

[Public Notice: 11708]

30-Day Notice of Proposed Information Collection: MyTravelGov

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to May 16, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to CA/EX Special Assistant Robin Patzelt, U.S. Department of State, Bureau of Consular Affairs, Office of the Executive Director, SA-17, 7th Floor, Washington, DC 20522-1707, who may be reached on 202-485-7365 or at PublicCommentsEX@state.gov.

SUPPLEMENTARY INFORMATION: • Title of Information Collection: MyTravelGov.

• OMB Control Number: None.

• Type of Request: New Collection.

• Originating Office: Bureau of Consular Affairs, Office of the Executive Director (CA/EX).

• Form Number: No form.

• Respondents: Individuals.

• Estimated Number of Respondents: 4,128,741 annually.

• Estimated Number of Responses: 4,128,741 annually.

• Average Time per Response: Five minutes.

• Total Estimated Burden Time: 344,062 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

MyTravelGov is an electronic account creation and validation portal. U.S. citizens who wish to submit applications for consular services online (electronic applications) instead of submitting paper applications must create a unique user account through MyTravelGov. The unique user account will safeguard the submission and storage of personally identifiable information necessary to process an online application. The information collected will also be used by servers to validate subsequent log-ons to the unique user account or attempts to reset the account password to ensure the security and integrity of accounts.

Methodology

Information is collected when an individual logs on to the MyTravelGov web portal and elects to create a unique user account.

Kevin E. Bryant,
Deputy Director, Office of Directives Management, Department of State.

[FR Doc. 2022-08047 Filed 4-13-22; 8:45 am]

BILLING CODE 4710-06-P